ENVIRONMENTAL PROTECTION AGENCY

40 CFR Part 52

[EPA-R10-OAR-2024-0595; FRL-12391-05-R10]

Air Plan Approval; AK, Fairbanks North Star Borough; 2006 24-Hour PM2.5 Serious Area and 189(d) Plan

AGENCY: Environmental Protection Agency (EPA).

ACTION: Proposed rule; reopening of comment period.

SUMMARY: The Environmental Protection Agency (EPA) is reopening the public comment period on the proposed rule entitled “Air Plan Approval; AK, Fairbanks North Star Borough; 2006 24-hour PM2.5 Serious Area and 189(d) Plan” published on January 8, 2025. Commenters requested more time to review the proposal and prepare comments. In response, the EPA is providing an additional 30 days for the public to provide comment on all aspects of the proposed rule. The January 8, 2025, notice of proposed rulemaking also started the EPA's adequacy process for the motor vehicle emissions budgets and began the public comment period for that process. The EPA is not reopening the public comment period for the adequacy process, and it intends to proceed with the adequacy process outside of this rulemaking.

DATES: The comment period for the proposed rule published on January 8, 2025, at 90 FR 1600, is reopened to allow more time to review the proposal and prepare comments. The EPA is reopening the comment period and the comments must be received on or before April 23, 2025.

ADDRESSES: Submit your comments, identified by Docket ID No. EPA-R10-OAR-2024-0595, at https://www.regulations.gov. Follow the online instructions for submitting comments. Once submitted, comments cannot be edited or removed from Regulations.gov. The EPA may publish any comment received to its public docket. Do not submit electronically any information you consider to be Confidential Business Information (CBI) or other information the disclosure of which is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Matthew Jentgen, EPA Region 10, 1200 Sixth Avenue—Suite 155, Seattle, WA 98101, (206) 553-0340, jentgen.matthew@epa.gov.

SUPPLEMENTARY INFORMATION: On January 8, 2025, the EPA published a notice of proposed rulemaking to approve changes to the Alaska State Implementation Plan (90 FR 1600). The changes, submitted by the State of Alaska on December 4, 2024, address Clean Air Act requirements for the 2006 24-hour fine particulate matter (PM2.5) national ambient air quality standards in the Fairbanks North Star Borough Serious PM2.5 nonattainment area. Alaska's submission includes State Implementation Plan (SIP) revisions to meet nonattainment planning requirements for emissions inventories, modeling and sulfur dioxide precursor demonstration for major stationary sources, control measures, attainment projections and progress to attainment and associated motor vehicle emissions budgets, and contingency measures. The public comment period closed on February 7, 2025. Commenters requested more time to review the proposal and prepare comments with respect to the energy efficiency and weatherization measures discussed in the January 8, 2025, notice of proposed rulemaking.¹ In response to this request, the EPA is reopening the public comment period on the proposed rule and providing an additional 30 days for the public to provide comments on all aspects of the proposed rule.

¹ 90 FR 1600, January 8, 2025, section II.C.3.a.iv.

The January 8, 2025, notice of proposed rulemaking also started the transportation conformity adequacy process for the motor vehicle emissions budgets in Alaska's submitted SIP. As noted in the proposal, the EPA may find budgets adequate before the SIP submission is approved in a final rule, once the public has been provided with a comment period of at least 30 days. The EPA is not reopening the public comment period for the adequacy process, and it intends to proceed with the adequacy process outside of this rulemaking, as described in 40 CFR 93.118(f).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Krishnaswamy Viswanathan,
Air and Radiation Division Director, Region 10.

[FR Doc. 2025-04908 Filed 3-21-25; 8:45 am]

BILLING CODE 6560-50-P